DEPARTMENT OF VETERANS AFFAIRS

Research Advisory Committee on Gulf War Veterans' Illnesses; Notice of Meeting

The Department of Veterans Affairs (VA) gives notice under the Federal Advisory Committee Act that the Research Advisory Committee on Gulf War Veterans' Illnesses will meet on March 20-21, 2018, at Nova Southeastern University, Center for Collaborative Research, 3321 College Avenue, Suite 242, in Davie, FL 33314, from 2:00 p.m. until 5:30 p.m. (Eastern) on March 20 and from 9:00 a.m. to 5:00 p.m. (Eastern) on March 21. All sessions will be open to the public, and for interested parties who cannot attend in person, there is a toll-free telephone number (800) 767-1750; access code 56978#.

The purpose of the Committee is to provide advice and make recommendations to the Secretary of Veterans Affairs on proposed research studies, research plans, and research strategies relating to the health consequences of military service in the Southwest Asia theater of operations during the Gulf War in 1990-1991.

The Committee will review VA program activities related to Gulf War Veterans' illnesses, and updates on relevant scientific research published since the last Committee meeting. Presentations will include updates on the VA Gulf War research program, descriptions of new areas of research involving airborne hazards, blast injuries and neuroscience, and phenotyping research that can be applied to the health problems of Gulf War Veterans. Also, there will be a discussion of Committee business and activities.

The meeting will include time reserved for public comments in the afternoon. A sign-up sheet for 5-minute comments will be available at the meeting. Individuals who wish to address the Committee may submit a 1-2 page summary of their comments for inclusion in the official meeting record. Members of the public may also submit written statements for the Committee's review to Dr. Victor Kalasinsky via email at victor.kalasinsky@va.gov.

Because the meeting is being held in a university building, a photo I.D. must be presented as part of the clearance process. Therefore, any person attending should allow an additional 15 minutes before the meeting begins. Any member of the public seeking additional information should contact Dr. Kalasinsky, Designated Federal Officer, at (202) 443-5600.

Dated: February 7, 2018.
LaTonya L. Small,
Federal Advisory Committee Management Officer.

[FR Doc. 2018-02799 Filed 2-9-18; 8:45 am]

BILLING CODE P